DEPARTMENT OF ENERGY

Federal Energy Regulatory Commission

Combined Notice of Filings #2

Take notice that the Commission received the following electric rate filings:

Docket Numbers: ER15-58-003; ER15-30-003; ER15-2602-001; ER15-2243-001; ER15-2134-001; ER15-1375-001; ER15-1016-001; ER14-2710-005; ER14-2709-005; ER14-2708-006; ER14-21-004; ER14-1630-005; ER13-2474-004; ER13-2461-003; ER13-2458-002; ER12-895-008; ER12-676-007; ER12-631-008; ER12-2444-007; ER12-1880-009; ER12-1660-008; ER11-4678-008; ER11-4677-008; ER11-4462-013; ER11-4428-010; ER11-2365-007; ER11-2192-008; ER10-2720-010; ER10-2078-009; ER10-1995-007; ER10-1994-007; ER10-1993-008; ER10-1991-008; ER10-1990-008; ER10-1989-007; ER10-1986-008; ER10-1985-007; ER10-1984-008; ER10-1983-008; ER10-1976-007; ER10-1975-018; ER10-1974-017; ER10-1973-007; ER10-1972-008; ER10-1971-022; ER10-1970-008; ER10-1968-008; ER10-1967-008; ER10-1951-010.

Applicants: Mantua Creek Solar, LLC, McCoy Solar, LLC, Meyersdale Storage, LLC, Meyersdale Windpower LLC, Mill Run Windpower, LLC, Minco Wind, LLC, Minco Wind II, LLC, Minco Wind III, LLC, Minco Wind Interconnection Services, LLC, Mountain View Solar, LLC, NEPM II, LLC, NextEra Energy Duane Arnold, LLC, NextEra Energy Montezuma II Wind, LLC, NextEra Energy Point Beach, LLC, NextEra Energy Power Marketing, LLC, NextEra Energy Seabrook, LLC, NextEra Energy Services Massachusetts, LLC, Northeast Energy Associates, A Limited Partnership, North Jersey Energy Associates, A Limited Partnership, North Sky River Energy, LLC, Northern Colorado Wind Energy, LLC, Osceola Windpower, LLC, Osceola Windpower II, LLC, Palo Duro Wind Energy, LLC, Palo Duro Wind Interconnection Services, LLC, Paradise Solar Urban Renewal, L.L.C., Peetz Table Wind Energy, LLC, Pennsylvania Windfarms, Inc., Perrin Ranch Wind, LLC, Pheasant Run Wind, LLC, Red Mesa Wind, LLC, Seiling Wind, LLC, Seiling Wind II, LLC, Seiling Wind Interconnection Services, LLC, Silver State Solar Power South, LLC, Shafter Solar, LLC, Sky River LLC, Sky River Asset Holdings, LLC, Somerset Windpower, LLC, Steele Flats Wind Project, LLC, Story Wind, LLC, Tuscola Bay Wind, LLC, Tuscola Wind II, LLC, Vasco Winds, LLC, Waymart Wind Farm, L.P., Wessington Wind Energy Center, LLC, White Oak Energy LLC, Wilton Wind II, LLC, Windpower Partners 1993, LLC.

Description: Supplement to October 280, 2015 Notice of Change in Status of the NextEra Energy Companies [Part 2 of 2].

Filed Date: 11/25/15.

Accession Number: 20151125-5335.

Comments Due: 5 p.m. ET 12/16/15.

Docket Numbers: ER15-2565-001.

Applicants: California Independent System Operator Corporation.

Description: Compliance filing: 2015-11-30 Compliance Filing-EIM Transition Period to be effective 11/1/2015.

Filed Date: 11/30/15.

Accession Number: 20151130-5248.

Comments Due: 5 p.m. ET 12/21/15.

Docket Numbers: ER16-424-000.

Applicants: Dominion Energy Manchester Street, Inc.

Description: Compliance filing: Compliance Filing—DEMS Removal of Affiliate Waiver to be effective 11/1/2015.

Filed Date: 11/30/15.

Accession Number: 20151130-5215.

Comments Due: 5 p.m. ET 12/21/15.

Docket Numbers: ER16-425-000.

Applicants: New York Independent System Operator, Inc.

Description: § 205(d) Rate Filing: 205 filing tariff revision re: scarcity pricing to be effective 12/31/9998.

Filed Date: 11/30/15.

Accession Number: 20151130-5216.

Comments Due: 5 p.m. ET 12/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2015.
Nathaniel J. Davis, Sr.,
Deputy Secretary.

[FR Doc. 2015-30706 Filed 12-4-15; 8:45 am]

BILLING CODE 6717-01-P